DEPARTMENT OF DEFENSE

Office of the Secretary

[Transmittal No. 24-0G]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0G.

Dated: December 9, 2025.
Stephanie J. Bost,
Alternate OSD Federal Register Liaison Officer, Department of Defense.

BILLING CODE 6001-FR-P

BILLING CODE 6001-FR-C

Transmittal No. 24-0G

REPORT OF ENHANCEMENT OR UPGRADE OF SENSITIVITY OF TECHNOLOGY OR CAPABILITY (SEC. 36(B)(5)(C), AECA)

(i) Prospective Purchaser: Kingdom of Saudi Arabia

(ii) Sec. 36(B)(1), AECA Transmittal No.: 15-68

Date: October 19, 2015

Implementing Agency: Navy

Funding Source: National Funds

(iii) Description: On October 19, 2015, Congress was notified by congressional certification transmittal number 15-68 of the possible sale, under Section 36(b)(l) of the Arms Export Control Act, of a comprehensive naval modernization program referred to as the Saudi Naval Expansion Program II (SNEP- II). This 2015 notification of the next phase of that program will include Multi-Mission Surface Combatant (MMSC) ships and program office support. The MMSC will consist of the following Major Defense Equipment (MDE): four (4) MMSC ships (a derivative of the Freedom Variant of the U.S. Navy Littoral Combat Ship (LCS) Class) that incorporate five (5) COMBATSS-21 Combat Management Systems (four (4) installed, one (1) spare) with five (5) TRS-4D Radars (four (4) installed, one (1) spare); five (5) Identification Friend or Foe (IFF) (Mode 4- and Mode 5-capable) UPX-29 (four (4) installed, one (1) spare); five (5) Compact Low Frequency Active Passive Variable Depth Sonar (four (4) installed, one (1) spare); eight (8) MK-41 Vertical Launch Systems (VLS) (two (2) eight-cell assemblies per ship for 16 cells per hull); five-hundred thirty-two (532) tactical RIM-162 Evolved Sea Sparrow Missiles (ESSM) (one hundred twenty-eight (128) installed, twenty (20) test and training rounds, three hundred eighty-four (384) spares); five (5) AN/SWG-l (V) Harpoon Ship Command Launch Control Systems (four (4) installed (one (1) per ship), one (1) spare); eight (8) Harpoon Shipboard Launchers (two (2) installed four-tube assemblies per ship); forty-eight (48) RGM-84 Harpoon Block II Missiles (thirty-two (32) installed, sixteen (16) test and training rounds); five (5) MK-15 Mod 31 SeaRAM Close-In Weapon System (CIWS) (four (4) installed, one (1) spare); one-hundred eighty-eight (188) RIM 116C Block II Rolling Airframe Missiles (RAM) (forty-four (44) installed, twelve (12) test and training rounds, one hundred thirty-two (132) spares); five (5) MK-75 76mm OTO Melara Gun Systems (four (4) installed, one (1) spare); and forty-eight (48) 50-caliber machine guns (forty (40) installed (ten (10) per ship), eight (8) spares); ordnance; and Selective Availability Anti-Spoofing Module (SAASM) Global Positioning System/Precise Positioning Service (GPS/PPS) navigation equipment. Also included in this sale in support of the MMSC are: study, design and construction of operations; support and training facilities; spare and repair parts; support and test equipment; communications equipment employing Link 16 equipment; Fire Control System/Ceros 200 Sensor and Illuminator; 20mm Narwhal Gun; Nixie AN/SLQ-25A Surface Ship Torpedo Defense System; MK-32 Surface Vessel Torpedo Tubes; WBR-2000 Electronic Support Measure and Threat Warning System; Automatic Launch of Expendables (ALEX) Chaff and Decoy-Launching System; ARC-210 Radios; Combined Enterprise Regional Information Exchange System (CENTRIXS); Automated Digital Network System; publications and technical documentation; personnel training and training equipment; U.S. Government and contractor engineering, technical and logistics support services; and other related elements of logistical and program support. In addition, this case provided overarching program office support for the SNEP II to include: U.S. Government and contractor engineering, technical and logistics support, and other related elements of program support to meet necessities for program execution. The estimated cost was $11.25 billion. Major Defense Equipment (MDE) constituted $4.30 billion of this total.

On May 24, 2019, Congress was notified by congressional certification transmittal number 0P-19 of the inclusion of four (4) Multifunctional Information Distribution System Joint Tactical Radio Systems (MIDS JTRS) to be installed on Saudi Arabia's Multi-Mission Surface Combatant (MMSC) ships, support equipment, engineering and technical support, training, and other related elements of program support. The estimated total value remained at $11.25 billion. The total MDE value increased by $7 million to a revised MDE total of $4.307 billion.

This transmittal notifies the inclusion of one hundred forty-eight (148) RGM-114-L Longbow Hellfire missiles (32 for each of 4 ships, 20 for testing); five (5) Indra Rigel Electronic Attack Systems (1 per ship, 1 for training); and sixteen (16) M240B machine guns (4 per ship) for installation on the Kingdom of Saudi Arabia's Multi-Mission Surface Combatant (MMSC) ships. Also included is engineering and technical support; training; and other related elements of logistics and program support. The estimated total case value will remain $11.25 billion. The total MDE value will increase by $403 million to a revised $4.71 billion.

(iv) Significance: This notification is being provided as the additional MDE items were not enumerated in the original notification. The proposed sale will support the Kingdom of Saudi Arabia with added protection in the Persian Gulf to meet current and future maritime threats. The Kingdom of Saudi Arabia intends to use the capability to support interoperability with U.S. forces and to support joint and coalition warfighting capabilities in the region.

(v) Justification: This proposed sale will contribute to the foreign policy and national security objectives of the United States by ensuring the readiness of a friendly country that continues to be an important force for political stability and economic growth in the Middle East.

(vi) Sensitivity of Technology:

Longbow Hellfire (LBHF) is a short-range, precision strike, air-to-surface missile that uses millimeter wave (MMW) radar guidance. LBHF was developed as an anti-armor weapon for helicopters. As part of the U.S. Navy's Littoral Combat Ship (LCS) program, the missile was modified to serve in a shipboard surface-to-surface role. This modified missile was adapted for use in a quad pack canister installed into the Mk-41 Vertical Launch System (VLS) for the Multi-Mission Surface Combatant (MMSC) ships.

The Indra Electronic Warfare (EW) suite will provide electronic surveillance, electronic protection, and electronic attack capabilities for the MMSC ships. The EW suite that will be installed on the MMSC ships is comprised of radar electronic support measures, which detect and identify enemy communications, and active radar electronic countermeasures, which jam and disrupt enemy radar performance and communications. The Indra EW suite will not be integrated with the ship's combat management system, will not exchange classified data, and the U.S. Navy will not provide threat library information. The EW suite is available internationally through Indra.

The M240B machine guns will provide shipboard self-defense for MMSC ships in the Arabian Gulf, helping to protect critical ports and waterways while ensuring freedom of navigation.

The Sensitivity of Technology Statement contained in the original notification applies to additional items reported here.

The highest level of classification of defense articles, components, and services included in this potential sale is SECRET.

(vii) Date Report Delivered to Congress: October 11, 2024

[FR Doc. 2025-22602 Filed 12-11-25; 8:45 am]

BILLING CODE 6001-FR-P